DEPARTMENT OF HEALTH AND HUMAN SERVICES

Health Resources and Services Administration

Rescheduling National Advisory Council on Migrant Health Meeting

AGENCY: Health Resources and Services Administration (HRSA); Department of Health and Human Services (HHS).

ACTION: Notice; correction.

SUMMARY: This is to notify the public that the National Advisory Council on Migrant Health (NACMH) meeting, originally scheduled for May 5-6, 2020, is re-scheduled to July 29-30, 2020. The May 5-6, 2020, NACMH meeting was announced in the Federal Register, Vol. 85, No. 41, on Monday, March 2, 2020 (FR Doc. 2020-04169 Filed 2-28-20). The decision to re-schedule the NACMH meeting has been made after carefully examining the Centers for Disease Control and Prevention's recommendations to restrict all non-essential travel, and the widespread health risks posed by COVID-19 to the American public. The location and agenda for the re-scheduled NACMH meeting remains as posted in the Federal Register, Vol. 85, No. 41, on Monday, March 2, 2020. For calendar year 2020 meetings, agenda items may include, but are not limited to, topics and issues related to migratory and seasonal agricultural worker health. Refer to the NACMH website listed below for all current and updated information concerning the calendar year 2020 NACMH meetings, including draft agendas and meeting materials, which will be posted 30 calendar days before the meeting.

DATES: July 29-30, 2020; 9:00 a.m. to 5:00 p.m. Mountain Time (MT).

ADDRESSES: The meeting will be held in-person at Courtyard Boulder Longmont, 1410 Dry Creek Drive, Longmont, Colorado 80503.

Instructions for joining the meeting in-person will be posted on the NACMH website 30 business days before the date of the meeting. For meeting information updates, go to the NACMH website at: https://bphc.hrsa.gov/qualityimprovement/strategicpartnerships/nacmh/index.html.

FOR FURTHER INFORMATION CONTACT: Esther Paul, NACMH Designated Federal Officer (DFO), Strategic Initiatives and Planning Division, Office of Policy and Program Development, Bureau of Primary Health Care, HRSA, 5600 Fishers Lane, Rockville, Maryland 20857; 301-594-4300; or epaul@hrsa.gov.

Correction: The NACMH meeting originally scheduled to take place on May 5-6, 2020, is re-scheduled to July 29-30, 2020.

Maria G. Button,
Director, Executive Secretariat.

[FR Doc. 2020-07204 Filed 4-6-20; 8:45 am]

BILLING CODE 4165-15-P